NUCLEAR REGULATORY COMMISSION

[Docket No. 40-8027]

License No. SUB-1010; Sequoyah Fuels Corporation; Receipt of Request for Action Under 10 CFR 2.206

Notice is hereby given that by petition dated October 2, 2003, the Cherokee Nation and the State of Oklahoma (collectively, the Petitioners) have requested that the U.S. Nuclear Regulatory Commission (NRC) take enforcement actions against the Sequoyah Fuels Corporation (SFC). The Petitioners request that NRC deny SFC's requests to approve proposed license amendments. The proposed amendments include a proposed Ground Water Monitoring Plan (GWMP) and a proposed Ground Water Corrective Action Plan (GWCAP) for the SFC site near Gore, Oklahoma.

As bases for this request, the Petitioners identified alleged deficiencies in SFC's proposed GWMP and in their proposed GWCAP. The Petitioners stated that the GWMP is inadequate and that the GWCAP is not protective of human health and the environment and identified specific areas they believe to be deficient in each plan.

The Petitioners requested a hearing, which was denied on November 19, 2003, on the proposed license amendments before the Atomic Safety and Licensing Board (ASLB). The Cherokee Nation appealed the ASLB decision to the Commission. The appeal was denied on January 14, 2004. In accordance with 10 CFR 2.1205(l)(2), the ASLB Presiding Officer referred the petition to the NRC staff to be treated as a petition for enforcement action under 10 CFR 2.206. The request has been referred to the Director of the Office of Nuclear Material Safety and Safeguards. As provided by section 2.206, appropriate action will be taken on this petition within a reasonable time. A copy of the petition is available in the Agencywide Documents Access and Management System (ADAMS) for inspection at the Commission's Public Document Room (PDR), located at One White Flint North, 11555 Rockville Pike (first floor), Rockville, Maryland, and from the ADAMS Public Library component on the NRC's Web site, http://www.nrc.gov (the Public Electronic Reading Room) using Accession No. ML033440220. Persons who do not have access to ADAMS or who encounter problems in accessing the documents located in ADAMS should contact the NRC's PDR reference staff by telephone at 1-800-397-4209, or 301-415-4737, or by e-mail to pdr@nrc.gov.

Dated at Rockville, Maryland this 1st day of March, 2004.
For the Nuclear Regulatory Commission.
Martin J. Virgilio,
Director, Office of Nuclear Material Safety and Safeguards.

[FR Doc. 04-5598 Filed 3-11-04; 8:45 am]

BILLING CODE 7590-01-P